ENVIRONMENTAL PROTECTION AGENCY

[FRL-7208-1]

Draft Procedure for the Joint Solicitation Of Research Proposals by the U.S. Environmental Protection Agency's Office of Research and Development and the American Chemistry Council's Long-Range Research Initiative; Solicitation of Public Input into the Development of a Joint Request for Applications on “Novel Approaches for Analysis of Human Exposure Data;” Notice of Meeting

AGENCY: Environmental Protection Agency (EPA).

ACTION: Notice of meeting.

SUMMARY: The U.S. Environmental Protection Agency's Office of Research and Development (ORD) and the American Chemistry Council's (ACC) Long-Range Research Initiative (LRI) are interested in issuing joint solicitations for research proposals. A draft document has been developed that sets forth a public process that brings together government and industry to engage the best scientists in the research community to assist in improving the quantity and quality of data for use in human health and ecological risk assessment. Recent discussions have led ORD and ACC to agree to pursue, as a first area of collaboration, a joint request for applications (RFA) in the area of “Novel Approaches for Analysis of Human Exposure Data.” The purpose of this meeting is to: (1) Present the draft procedures for the public process of issuing joint RFAs, (2) solicit comment on the proposal, and (3) solicit specific input (e.g., suggested research areas) into the development of a joint RFA on novel approaches for analysis of human exposure data.

DATES: The meeting will be held on Thursday, May 23, 2002 beginning at 1 PM and adjourning at 4 PM. Times noted are Eastern Time.

ADDRESSES: The meeting will be held in the Hemisphere B Room on the Concourse Level of the Ronald Reagan Building, 1300 Pennsylvania Avenue, NW, Washington, DC.

SUPPLEMENTARY INFORMATION: The draft procedure for the joint solicitation of research proposals by the U.S. Environmental Protection Agency's Office of Research and Development and the American Chemistry Council's Long-Range Initiative and the agenda for the meeting may be obtained electronically through: (1) The EPA website: http://www.epa.gov/ncerqa, (2) the ACC website: http://www.americanchemistry.com, (3) the LRI website: http://www.uslri.org, and (4) the below listed point of contact.

The meeting is open to the public. Registration before the meeting is requested. Any member of the public wishing to make a presentation at the meeting should also request to do so beforehand. Presentations should be limited to 10 minutes. Written comments on the draft process for collaboration and for consideration toward the development of the RFA on novel approaches for analysis of human exposure data will be accepted until June 12, 2002.

FOR FURTHER INFORMATION CONTACT: Requests to register for the meeting and to provide oral and/or written public comment should be sent to Michaela Hancock, The Scientific Consulting Group, Inc., 656 Quince Orchard Road, Suite 210, Gaithersburg, MD 20878-1409; Telephone: 301-670-4990; x41; Fax: 301-670-3815; E-mail: mhancock@scgcorp.com

Dated: April 30, 2002.
Peter W. Preuss,
Director, National Center for Environmental Research.

[FR Doc. 02-11301 Filed 5-6-02; 8:45 am]

BILLING CODE 6560-50-P